DEPARTMENT OF JUSTICE

Antitrust Division

Notice Pursuant to the National Cooperative Research and Production Act of 1993—Joint Venture Under ATP Award No. 70NANB4H3028

Notice is hereby given that, on October 28, 2004, pursuant to section 6(a) of the National Cooperative Research and Production Act of 1993, 15 U.S.C. 4301 et seq. (“the Act”), Joint Venture under ATP Award No. 70NANB4H3028 has filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to section 6(b) of the Act, the identities of the parties are Carbon Nanotechnologies, Inc., Houston, TX; Johnson Matthey Fuel Cells, Inc., West Chester, PA; and Motorola Inc., Motorola Labs, Microelectronics & Physical Sciences Lab, Tempe, AZ. The nature and objectives of the venture are: to exploit the unique properties of single-wall carbon nanotubes (SWNT) in order to achieve major breakthroughs in Proton Exchange Membrane (PEM) fuel cell performance, durability and manufacturability.

Dorothy B. Fountain,
Deputy Director of Operations, Antitrust Division.

[FR Doc. 04-27067 Filed 12-9-04; 8:45 am]

BILLING CODE 4410-11-M